DEPARTMENT OF TRANSPORTATION

Research and Special Programs Administration

49 CFR Part 195

[Docket No. RSPA-97-2095; Amendment 195-66]

RIN 2137-AC 11

Pipeline Safety: Adoption of Consensus Standards for Breakout Tanks; Correction

AGENCY: Research and Special Programs Administration (RSPA), DOT.

ACTION: Correcting amendments.

SUMMARY: This document corrects a final rule published April 2, 1999 (64 FR 15926). The final rule incorporates by reference consensus standards for aboveground steel storage tanks into the hazardous liquid pipeline safety regulations. This document makes two minor corrections to the final rule. First, it adds an industry publication, American Petroleum Institute (API) 1130 to the list of incorporated references. Second, it corrects the reference to the API Standard 653 to include Addendum 2.

DATES: Effective February 1, 2000. The incorporation by reference of the publication stated in the rule was approved by the Director of the Federal Register as of February 1, 2000.

FOR FURTHER INFORMATION CONTACT: Mike Israni, (202) 366-4571, or e-mail: mike.israni@rspa.dot.gov.

SUPPLEMENTARY INFORMATION: When RSPA published the final rule in the Federal Register, it inadvertently omitted industry publication API 1130, Computational Pipeline Monitoring (1st Edition, 1995), from 49 CFR 195.3, Matter incorporated by reference. This document corrects this omission in the reference list by adding a reference to API 1130 in § 195.3 (c)(2)(ii) and by renumbering subsequent references. Also, in the final rule the preamble section listed API Standard 653 (Addenda 1 and 2), but the regulatory text section listed API Standard 653 (Addendum 1). This document corrects this discrepancy by specifying API Standard 653 (Addenda 1 & 2) in both places. We regret any confusion these omissions may have caused.

List of Subjects in 49 CFR Part 195

Incorporation by reference, Breakout tanks, Hazardous liquids and Petroleum, Carbon dioxide, Pipeline safety, Reporting and recordkeeping requirements.

RSPA amends Part 195 of title 49 of the Code of Federal Regulations as follows:

PART 195—TRANSPORTATION OF HAZARDOUS LIQUIDS BY PIPELINE

Accordingly, 49 CFR Part 195 is corrected by making the following correcting amendments:

1. The authority citation for Part 195 continues to read as follows:

Authority: 49 U.S.C. 5103, 60102, 60104, 60108, 60109, 60118; and 49 CFR 1.53.

2. In § 195.3, (c)(2) is amended by redesignating existing paragraphs (c)(2)(ii) through (c)(2)(xv) as (c)(2)(iii) through (c)(2)(xvi) respectively, by adding a new paragraph (c)(2)(ii) and by revising redesignated paragraph (c)(2)(xiv) to read as follows:

§ 195.3 Matter incorporated by reference.

* * * * *

(c) * * *

(2) * * *

(ii) API 1130 “Computational Pipeline Monitoring” (1st Edition, 1995).

* * * * *

(xiv) API Standard 653 “Tank Inspection, Repair, Alteration, and Reconstruction” (2nd edition, December 1995, including Addenda 1 & 2).

* * * * *

Issued in Washington, DC on October 27, 1999.
Kelley S. Coyner,
Administrator.

[FR Doc. 00-340 Filed 1-31-00; 8:45 am]

BILLING CODE 4910-60-P